DEPARTMENT OF THE INTERIOR

National Park Service

[NPS-WASO-NRNHL-DTS#-31645; PPWOCRADI0, PCU00RP14.R50000]

National Register of Historic Places; Notification of Pending Nominations and Related Actions

AGENCY: National Park Service, Interior.

ACTION: Notice.

SUMMARY: The National Park Service is soliciting electronic comments on the significance of properties nominated before March 13, 2021, for listing or related actions in the National Register of Historic Places.

DATES: Comments should be submitted electronically by April 7, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before March 13, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Kingman Park Historic District (Boundary Increase), 900-2000 blks. of C, D, and E Sts. NE; 300 and 400 blks. of 19th and 20th Sts. NE, Washington, BC100006400

MICHIGAN

Barry County

Hickory Lodge No. 345, 4558 West Hickory Rd., Hickory Corners, SG100006410

Wayne County

Detroit Savings Bank Southwest Branch (Branch Banks in Detroit, Michigan, 1889-1970 MPS), 5705 West Fort St., Detroit, MP100006411

MINNESOTA

Ramsey County

Woodland Park Baptist Church, 860 Laurel Ave., St. Paul, SG100006404

Renville County

Tinnes-Baker House, 801 Highway Ave., Bird Island, SG100006437

Rice County

Northfield Commercial Historic District (Boundary Increase), Roughly bounded by South Water, Division, Washington, East 3rd, West 3rd, East 4th, and West 6th Sts., Dahomey Ave./TH 35th Sts., Northfield, BC100006398

NEVADA

Clark County

Las Vegas High School Academic Building, Gymnasium, and Frazier Hall (Boundary Increase), (Historic School Buildings in the Evolution of the Fifth Supervision School District MPS), 315 South 7th St., Las Vegas, MP100006408

PENNSYLVANIA

Chester County

Brooklawn, 1825 Newark Rd., West Marlborough Township, SG100006433

TEXAS

Bowie County

Texarkana National Bank, 100 East Broad St., Texarkana, SG100006403

Howard County

Petroleum Building, 111 Scurry St., Big Spring, SG100006397

VIRGINIA

Southampton County

Woodson-Turner, Millie, Home Site (The Nottoway of Virginia, c. 1650-1953 MPS), Approx. 570 ft. west of jct. of Indian Town and Cobb Pond Rds., Capron vicinity, MP100006436

WISCONSIN

Marathon County

Hotel Wausau, 221 Scott St., Wausau, SG100006405

Walworth County

Oak Hill Cemetery, 1101 Cemetery Rd., Lake Geneva, SG100006406

Additional documentation has been received for the following resources:

DISTRICT OF COLUMBIA

District of Columbia

Kingman Park Historic District (Additional Documentation), Between Rosedale & D St., Maryland Ave. NE, 19th St. & Oklahoma Ave. NE, Washington, AD100002960

MINNESOTA

Rice County

Northfield Commercial Historic District (Additional Documentation), Roughly bounded by South Water, Division, Washington, East 3rd, West 3rd, East 4th, and West 6th Sts., Dahomey Ave./TH 35th Sts., Northfield, AD100006398

NEVADA

Clark County

Las Vegas High School Academic Building, Gymnasium, and Frazier Hall (Additional Documentation), (Historic School Buildings in the Evolution of the Fifth Supervision School District MPS), 315 South 7th St., Las Vegas, AD86002293

Nomination submitted by Federal Preservation Officer:

The State Historic Preservation Officer reviewed the following nomination and responded to the Federal Preservation Officer within 45 days of receipt of the nomination and supports listing the property in the National Register of Historic Places.

CALIFORNIA

Santa Barbara County

USCGC MCCULLOCH (coast guard cutter) Shipwreck, Address Restricted, Conception vicinity, SG100006401

Authority: Section 60.13 of 36 CFR part 60.

Dated: March 16, 2021.
Sherry A. Frear,
Chief, National Register of Historic Places/National Historic Landmarks Program.

[FR Doc. 2021-05938 Filed 3-22-21; 8:45 am]

BILLING CODE 4312-52-P